DEPARTMENT OF LABOR

Employment and Training Administration

Employment and Training Administration Workforce Investment Act—Migrants and Seasonal Farmworkers Program—Solicitation for Grant Applications—National Farmworker Jobs Program, Housing Assistance for Program Year 2007

AGENCY: U.S. Department of Labor, Employment and Training Administration.

ACTION: New. Initial announcement of a grant competition for operating the Housing Assistance portion of the National Farmworker Jobs Program (NFJP), under section 167 of the Workforce Investment Act of 1998 (WIA), 29 U.S.C. 2912.

Funding Opportunity Number: SGA/DFA-PY 06-05.

Catalog of Federal Domestic Assistance (CFDA) Number: 17.264.

SUMMARY: The U.S. Department of Labor (the Department or DOL), Employment and Training Administration (ETA), Office of Workforce Investment (OWI), Division of Adult Services (DAS), announces a grant competition for operating the housing assistance portion of the National Farmworker Jobs Program (NFJP), under section 167 of the Workforce Investment Act of 1998 (WIA), 29 U.S.C. 2912. All applicants for grant funds should read this notice in its entirety.

Section 167, paragraph (a) of WIA requires the Secretary to award grants or contracts on a competitive basis to eligible entities for the purposes of carrying out the activities authorized under section 167. Although housing assistance is identified in WIA as one of the allowable activities under the NFJP, Congressional appropriations language directs the Department to make available a specific amount of the funds appropriated for the NFJP for migrant and seasonal farmworkers housing assistance grants, and that no less than 70 percent of the specified amount must be used for permanent housing activities. Therefore, under this solicitation, of the $4,950,000 appropriated for NFJP Housing assistance, approximately $3,465,000 will be available for permanent housing assistance and approximately $1,485,000 for temporary and/or emergency housing assistance.

DATES: Key Dates: The closing date for receipt of applications under this announcement is May 29, 2007. Applications must be received at the address below no later than 5 p.m. Eastern Time.

ADDRESSES: Applications must be directed to the U.S. Department of Labor, Employment and Training Administration, Division of Federal Assistance, Attention: James Stockton, Room N-4673, 200 Constitution Avenue, NW., Washington, DC 20210.

SUPPLEMENTARY INFORMATION:

Supplementary Information

Funding Opportunity Description

The U.S. Department of Labor, Employment and Training Administration, Office of Workforce Investment (OWI), Division of Adult Services (DAS), is requesting applications for grants to operate the housing assistance portion of the National Farmworker Jobs Program (NFJP) in accordance with Section 167 of WIA, 29 U.S.C. 9201. The NFJP serves economically disadvantaged persons who primarily depend on employment in agricultural labor performed within the United States, including Puerto Rico, and who experience chronic unemployment or underemployment. Housing assistance is a supportive service offered to assist migrant and seasonal farmworkers to retain employment or enter into or complete training. Funds for housing assistance activities are made available through the NFJP appropriation included in the FY 2007 Continuing Appropriations Resolution, Pub. L. 110-5.

Housing assistance under the NFJP became available three decades ago as a tool to improve economic outcomes for farmworkers and was included as one of a number of supportive services to assist farmworkers to retain employment or enter into and/or remain in training. The NFJP regulations consider housing assistance one of a number of related assistance and/or supportive services available to eligible farmworkers through the NFJP (20 CFR 669.430). Over time, however, a strong link between the provision of housing assistance and achievement of employment, training, and earnings has eroded.

To once again establish a strong link between housing assistance activities and improved economic outcomes for farmworkers, the Department engaged in a dialogue with current and former housing assistance grantees to develop a set of principles and definitions of housing assistance that renewed the focus on employment and training objectives in future solicitations/competitions. The results of the dialogue are the Guiding Principles and Definitions that follow. Please note that a factor in scoring applications will be how well these Principles are applied to the proposed plan of services requested by this solicitation. The Definitions are intended to provide clarity for applicants as they develop their applications, and will also be factored into the scoring of the applications.

Guiding Principles

Housing Assistance Should Leverage Improved Economic Outcomes for Farmworkers

Housing assistance should enable migrant and seasonal farmworkers to retain employment, enter into, or complete job training activities, and improve their earnings. Housing is a service that supports the economic objectives of the NFJP.

Housing Assistance Services, and the Strategies Used To Deliver Them, Should Meet the Needs of All Farmworkers

Farmworkers seeking to improve their economic future have diverse housing needs. Moreover, these needs are not static but change over time. Strategies used to meet these diverse and dynamic housing assistance needs must be flexible and based on a mix of permanent and temporary housing and emergency assistance solutions tailored to regional and local needs.

Housing Developed With WIA 167 (NFJP) Funding Should Be Actively Marketed, and Broadly Accessible, to NFJP-Eligible Farmworkers

While occupancy of year-round and migrant rental units is not restricted to NFJP-eligible farmworkers, the strong link between housing assistance and the economic objectives of the NFJP should translate directly into broad access by NFJP farmworkers to housing assistance. Providing housing assistance to NFJP-eligible farmworkers should be a priority.

Definitions

Permanent Housing (and its corresponding housing assistance services) is defined as housing intended to be owner-occupied, or occupied on a permanent, year-round basis (notwithstanding ownership) as the farmworker's primary residence to which he/she typically returns at the end of the work or training day, and assists the farmworker to stay employed or enter into or complete job training.

Permanent housing (services) includes: Rental units, single family, duplexes, and other multi-family structures, dormitory, group home and other housing types that provide short-term, seasonal, or year-round housing opportunities in permanent structures. Modular structures, manufactured housing or mobile units placed on permanent foundations and supplied with appropriate utilities and other infrastructure are also considered permanent housing.

Managing permanent housing assistance activities may require investments in development services, project management, resource development to secure acquisition, construction/renovation and operating funds, property management services and program management. New construction, purchase of existing structures, and rehabilitation of existing structures, as well as the infrastructure, utilities and other improvements necessary to complete or maintain those structures may also be considered part of managing permanent housing.

Temporary housing (and its corresponding housing services, including emergency housing assistance) is defined as housing intended to meet the farmworker's need to temporarily occupy a unit of housing for reasons related to seeking or retaining employment, or engaging in training. It is not owner-occupied housing, and those farmworkers most likely to utilize it are those engaged in migratory employment or seasonal workers whose employment requires occasional travel outside their normal commuting area.

Temporary housing includes housing units intended for temporary occupancy located in permanent structures, such as rental units in an apartment complex. Yurts, mobile structures, and tents that provide short-term, seasonal housing opportunities are also included. They may be moved from site to site, dismantled and re-erected when needed for farmworker occupancy, closed during the off-season, or other similar arrangements.

Temporary housing may also be off-farm housing operated independently of employer interest in or control of the housing, or on-farm housing operated by a nonprofit, including faith based or community non-profit organizations, but located on property owned by an agricultural employer. Managing temporary housing assistance may involve property management of temporary housing facilities, case management and referral services, and emergency housing payments, including vouchers and cash payments for rent/lease and utilities.

As mentioned earlier, applicants must design their programs around the aforementioned Guiding Principles and Definitions, since they will be used as scoring factors.

Applicants may propose to provide permanent housing assistance services only, temporary/emergency housing assistance services only, or both permanent and temporary/emergency housing assistance services. The proposal must describe the proposed housing services to be provided and discuss the reasons why the proposed service mix is best suited to meet the employment and training and program performance objectives of the NFJP. Awards made in cases where housing assistance services are proposed in a single category only (permanent or temporary/emergency) will reflect ETA's compliance with the Congressional mandate that seventy (70) percent of housing assistance funds be used to provide permanent housing assistance services.

Applicants proposing to offer both types of housing assistance services must clearly describe the permanent and temporary/emergency housing assistance services proposed to be provided, and discuss the reasons why the proposed service strategy is best suited to meet the employment and training and program performance objectives of the NFJP. Such applications must include separate budgets for the proposed permanent and temporary/emergency housing assistance, respectively. These separate budget requests must conform to the Congressional mandate that seventy (70) percent of housing assistance funds be used to provide permanent housing assistance services.

Housing assistance under the NFJP is subject to the requirements of WIA section 167 and the Department's regulations at 20 CFR part 669. This program is also subject to the requirements of 29 CFR parts 93 (New Restrictions on Lobbying), 96 (Audit Requirements), and 98 (Debarment, Suspension, and Drug-Free Workplace Requirements); the Department's non-discrimination regulations at 29 CFR part 34, the non-discrimination regulations implementing WIA Section 188 at 29 CFR part 37, and the Equal treatment regulations found at 29 CFR Part 2, Subpart D. Applicants should be familiar with and consult the WIA regulations at 20 CFR parts 660 through 671 in developing their grant proposals. Should the regulations at part 669 of WIA conflict with regulations elsewhere in 20 CFR, the regulations at part 669 will control.

In addition, this program is subject to the provisions of the “Jobs for Veterans Act,” Public Law 107-288, which provides priority of service to veterans and spouses of certain veterans for the receipt of employment, training, and placement services in job training programs directly funded, in whole or in part, by the U.S. Department of Labor. In circumstances where NFJP housing assistance grant recipients must choose between two equally qualified candidates for housing assistance, one of whom is a veteran, the Jobs for Veterans Act requires that NFJP housing assistance grant recipients give the veteran priority of service by admitting him or her into the program. Please note that, to obtain priority of service, a veteran must meet the program's eligibility requirements. ETA Training and Employment Guidance Letter (TEGL) No. 5-03, along with additional guidance, is available at the “Jobs for Veterans Priority of Service” Web site at http://www.doleta.gov/programs/vets.

DAS will continue to work with grantees to develop a reporting and performance management and accountability system that allows for improved tracking of activities and performance results. Until such system is established, applicants awarded grants will be expected to report in narrative form on a quarterly basis. Instructions will be provided to organizations once grants are awarded.

II. Award Information

The type of assistance instrument to be used for the NFJP Housing Assistance program is a grant. Grants awarded through this solicitation will be for a two-year period, as prescribed in WIA section 167. Please be advised that the $4,950,000 provides funding for the NFJP for PY 2007 only (July 1, 2007, through June 30, 2008). Therefore, second year funding will be dependent on the availability of funding through the FY 2008 appropriation process.

The amount available nationally for the NFJP Housing Assistance program is $4,950,000. The FY 2007 Continuing Appropriations Resolution, Public Law 110-5, provides that no less than 70 percent of this amount shall be used for permanent housing activities. Therefore, approximately $3,465,000 will be available for permanent housing activities, and $1,485,000 will be available for temporary and emergency housing activities. Applicants are reminded that separate budgets and descriptions of activities are required for permanent and temporary and/or emergency housing assistance, particularly in cases where the applicant organization intends to provide both types of services.

In the past, housing grantees have typically provided housing assistance services in more than one state or area of a state. Therefore, for applications covering more than one area, applicants will be required to submit detailed information about the services to be provided in each of the areas covered by the proposal, including information regarding sub-grantees, if any. The application must include a detailed budget for each of the sub-grantees and describe the housing assistance services to be provided by each sub-grantee. Applications that propose to use sub-grantees but contain one budget for the entire project, without the breakdown for the sub-grantees, will be considered non-responsive and will not be reviewed.

The number and funding amount of grants awarded will vary depending on the number of applications received and found to be fundable. In the past, awards have ranged from approximately $150,000 to approximately $1,000,000.

Note: Selection of an organization as a grantee does not constitute approval of the grant application as submitted. Before the actual grant is awarded, the Department may enter into negotiations about such items as program components, the budget proposal, staffing and funding levels, and administrative systems in place to support grant implementation. If the negotiations do not result in a mutually acceptable submission, the Grant Officer reserves the right to terminate the negotiation and decline to fund the application.

III. Eligibility Information

Eligible Applicants

Applicants need not be a current or prior housing assistance grantee to be eligible for a grant award under this solicitation. State workforce agencies and State Workforce Boards, Local Workforce Investment Boards (LWIBs), and faith-based and community organizations are examples of the entities eligible to apply for a grant award.

To provide housing assistance services to eligible migrant and seasonal farmworkers under WIA section 167, whether permanent, temporary/emergency, or a mix of both, the Department will select those proposals that are deemed most responsive to the requirements of this solicitation, as reviewed and scored during the review panel process. To that end, proposals must show that the applicant:

—Has an understanding of the housing market in the area(s) they propose to serve, as well as an understanding of the housing needs of migrant and seasonal farmworkers;

—Has a familiarity with the housing conditions in the proposed service area, the housing assistance available from other agencies in the service area, and the impact of both those elements on the housing needs of farmworkers; and

—Has the capacity to effectively administer a housing assistance program with the proper administrative and fiscal oversight and integrity.

Additionally, to be responsive to the requirements of this solicitation, applicants must demonstrate how the proposed service plan will reflect the Guiding Principles described in Section I of this solicitation.

Applicants must describe their collaboration and working relationships with other agencies in the proposed service area that may provide housing or employment assistance, such as the One-Stop system and the wider community of social service agencies, including faith-based and community organizations.

The proposal should describe the expected results of those relationships on the development of and enhanced housing assistance services for farmworkers under this grant, if an award is made.

Cost Sharing or Matching

The WIA section 167 program does not require grantees to share costs or provide matching funds.

Other Eligibility Criteria

In accordance with 29 CFR part 98, entities that are debarred or suspended are excluded from Federal financial assistance and are ineligible to receive a WIA section 167 housing assistance grant.

Prior to awarding a grant, the Department will conduct a responsibility review of each potential grantee through available records. The responsibility review relies on testing available records to determine if an applicant has a satisfactory history of accounting for Federal funds and property. The responsibility review is independent of the competitive process. Applicants failing to meet the requirements of this section may be disqualified for selection as grantees, irrespective of their standing in the competition. Any applicant not selected as a result of the responsibility review will be advised of their appeal rights. The responsibility tests that will be applied are those present in the WIA regulations (20 CFR 667.170).

Legal Rules Pertaining to Inherently Religious Activities by Organizations That Receive Federal Financial Assistance

The government is generally prohibited from providing direct financial assistance for inherently religious activities. Please note that, in this context, the term direct financial assistance means financial assistance that is provided directly by a government entity or an intermediate organization, as opposed to financial assistance that an organization receives as the result of the genuine and independent private choice of a beneficiary. These grants may not be used for religious instruction, worship, prayer, proselytizing, or other inherently religious activities. Neutral, non-religious criteria that neither favor nor disfavor religion must be utilized in the selection of grant recipients and sub-recipients. The Department's Equal Treatment regulations can be found at 29 CFR Part 2, Subpart D.

IV. Application and Submission Information

Address To Request Application Package

This SGA includes all information and forms needed to apply for this funding opportunity. If additional copies of forms are needed, they can be found at http://www.doleta.gov/msfw and http://www.doleta.gov/sga.

Content and Form of Application Submission

An application must include two (2) separate and distinct parts: Part I—a cost proposal, and Part II—a technical proposal. Applications that fail to adhere to the instructions in this section will be considered non-responsive and will not be reviewed. Part I of the proposal is the Cost Proposal and must include the following items:

• A cover letter, an original plus two (2) copies of the proposal, and an ink-signed original SF 424, “Application for Federal Assistance,” must be submitted. As of October 12, 2003, all applicants for federal grant and funding opportunities are required to have a Dun and Bradstreet (DUNS) number (see OMB Notice of Final Policy Issuance, 68 FR 38402, dated June 27, 2003). Applicants must supply their DUNS number in item #8 of the new SF 424 issued by OMB (Rev. 10-2005). The DUNS number is a nine digit identification number that uniquely identifies business entities.

Obtaining a DUNS number is easy and there is no charge. To obtain a DUNS number, access this Web site: http://www.dunandbradstreet.com or call 1-866-705-5711.

• The Standard Form (SF) 424-A. In preparing the budget form, the applicant must provide a concise narrative explanation to support the request. The budget narrative should break down the budget and discuss precisely how the administrative costs support the project goals.

• EEO Survey. Applicants are required to submit OMB Survey No. 1890-0014: Survey on Ensuring Equal Opportunity for Applicants, which can be found at http://www.doleta.gov/sga/forms.cfm.

Part II of the application is the Technical Proposal, which demonstrates the applicant's capabilities to plan and implement the grant project in accordance with the provisions of this solicitation. The Technical Proposal should be limited to 20 numbered pages, double-spaced and single-sided, in 12-point text font with one-inch margins. Any pages over the 20 page limit will not be reviewed. It should be noted that letters of support and any required attachments will not be subject to the page limitations; letters of support will not be included in the materials provided to the panel for review of the proposal.

No cost data or reference to prices should be included in the Technical Proposal. Instead, applicants should include a two-page abstract summarizing the proposed project and applicant profile information including the applicant's name, the project title, and the funding level requested. The two-page abstract is not included in the 20-page limitation. Applications that do not meet these requirements will not be reviewed.

Submission Dates and Times

The closing date for receipt of applications under this announcement is May 29, 2007. Applications must be received at the address below no later than 5 p.m. Eastern Time on the closing date. Applications may be submitted by mail or electronically through Grants.gov at the address listed below. Applications sent by e-mail, telegram, or facsimile (fax) will not be accepted. Applications that do not meet the conditions set forth in this notice will not be honored. No exceptions to the mailing and delivery requirements set forth in this notice will be granted.

Mailed applications must be addressed to the U.S. Department of Labor, Employment and Training Administration, Division of Federal Assistance, Attention: James Stockton, Reference SGA/DFA PY 04-07, 200 Constitution Avenue, NW., Room N-4673, Washington, DC 20210. Applicants are advised that mail delivery in the Washington, DC area may be delayed due to mail decontamination procedures. Hand-delivered proposals will be received at the above address.

Applicants may apply online at http://www.grants.gov. Any application received after the deadline will not be accepted. For applicants submitting electronic applications via Grants.gov, it is strongly recommended that they immediately initiate and complete the “Get Started” steps to register with Grants.gov, at http://www.grants.gov/GetStarted. These steps will probably take multiple days to complete, which should be factored in to an applicant's plans for electronic applications submission in order to avoid unexpected delays that could result in the rejection of the application. Also, it is recommended that applicants experiencing problems with electronic submissions submit their proposals by overnight mail until the electronic issues are resolved. Other submission options are discussed in Section IV of this announcement.

Late Applications

Any application received after the closing date and time specified for receipt at the office designated in this notice will not be considered, unless it is received before awards are made and (a) it was sent by the U.S. Postal Service registered or certified mail no later than the fifth calendar day before the date specified for receipt of applications (e.g.; an application required to be received by the 20th of the month must be postmarked by the 15th of that month); or (b) it was sent via professional overnight delivery service or submitted on Grants.gov to the addressee not later than one working day prior to the date specified for receipt of applications.

The term “working days” excludes weekends and Federal holidays. “Postmarked” means that a printed, stamped, or otherwise placed impression that is readily identifiable, without further action, as having been supplied or affixed on the date of mailing by an employee of the U.S. Postal Service.

Intergovernmental Review

Executive Order (E.O.) No. 12372, “Intergovernmental Review of Federal Programs,” and the implementing regulations at 29 CFR part 17 are applicable to this program. Under these requirements, an applicant must provide a copy of the funding proposal for comment to the states that have established a consultation process under the E.O. Applications must be submitted to the state's Single Point of Contact (SPOC), no later than the deadline for submission of the application to the Department. For states that have not established a consultative process under E.O. 12372, but have a State Workforce Investment Board (State Board), the State Board will be the SPOC. For WIA implementation purposes, this consultative process fulfills the requirement of WIA Section 167(e) concerning consultation with Governors and Local Workforce Investment Boards (LWIB). To strengthen the implementation of the E.O., the Department establishes a timeframe for the treatment of comments from the state's SPOC on WIA Section 167 applications (including housing assistance). The SPOC must submit comments, if any, to the Department and the applicant no later than 30 days after the deadline for submission of the application. The applicant's response to the SPOC comments, if any, must be submitted to the Department no later than 15 days after the postmarked date of the comments from the SPOC. The Department will notify the SPOC of its decision regarding the SPOC comments and the applicant's response, and implement that decision within 10 days after notification to the SPOC.

The names and addresses of the SPOCs are listed in the Office of Management and Budget's (OMB) home page at http://www.whitehouse.gov/omb/grants/spoc.html.

Funding Restrictions

As mentioned earlier in this document, appropriations language requires that no less than 70 percent of the funds available through this solicitation must be spent on permanent housing activities. Given this requirement, applicants should clearly identify the types of housing assistance services that will be provided to farmworkers, particularly in cases where an applicant is proposing to provide both permanent and temporary housing assistance.

Applicants are advised that the requirement to spend 70 percent of the funds available through this solicitation on permanent housing may affect the number of applications funded and/or the amount of funding per grant.

Administrative costs are limited to fifteen (15) percent of the grant (see definition of administrative costs at 20 CFR 667.220). Administrative costs limits higher than fifteen (15) percent will not be approved.

Indirect Cost Rate

An indirect cost rate is required when an organization operates under more than one grant or other activity, whether Federally-assisted or not. Organizations must use the indirect cost rate supplied by the cognizant Federal agency. If an organization requires a new indirect cost rate or has a pending indirect cost rate, the Grant Officer will award a billing rate for 90 days until a provisional rate can be issued.

Allowable Costs

The Department shall determine what constitutes allowable cost in accordance with the following Federal cost principles, as applicable: OMB Circular A-87, State and Local Governments; OMB Circular A-21, Educational Institutions; OMB Circular A-122, Nonprofit Organizations; and 48 CFR Part 31, Profit-making Commercial Firms.

Other Submission Requirements

All other submission materials are identified in the various sections of this solicitation.

V. Application Review Information Criteria

The following full review criteria, totaling a maximum of 100 points, applies to all applications:

Understanding the Housing Assistance Needs of the Eligible Migrant and Seasonal Farmworkers in the Proposed Service Area(s)—20 Points

The Guiding Principles contained in Section I of this solicitation reflect critical elements for a sound housing assistance strategy, including how housing assistance services should leverage improved outcomes for farmworkers, and that housing developed with NFJP funding should be actively marketed and broadly accessible to NFJP-eligible farmworkers. These Principles, along with an understanding of the housing market in the proposed service area(s) and the problems faced by migrant and seasonal farmworkers in accessing that market, are critical to the formulation of an effective housing assistance strategy. In addition, an effective strategy of outreach to migrant and seasonal farmworkers is essential to meeting their housing assistance needs, as discussed in the Principles.

Applicants must describe the housing market in the proposed service area(s), including a description of employer-provided housing, if any; publicly-subsidized housing, if any; and the problems encountered by migrant and seasonal farmworkers in accessing affordable housing. Include a discussion of the problems faced by migrant and seasonal farmworkers in getting and keeping a job, or in participating in training activities that lead to improved economic outcomes, as a result of housing needs going unmet. Applicants must also describe their strategy for identifying and conducting outreach to eligible farmworkers with housing needs. In cases where a number of different organizations are jointly applying, this section must include the requested information for each of the areas covered by the potential sub-grantee organizations. Scoring on this factor will be based on how the tenets included in the Principles were incorporated in the applicant's analysis of the housing market in the area(s) of proposed services, as well as any studies and analyses conducted to determine farmworker housing assistance needs. Scoring will also take into account the quality of the applicant's analysis of housing assistance available through other housing assistance organizations, including faith-based and community organizations, and the applicants' plans to integrate their housing assistance services with those already present in the proposed area(s). The applicant's analysis must demonstrate an in-depth knowledge of the housing market in the service area(s) and how housing availability impacts a farmworker's ability to obtain and retain employment, or participate in training or other activities that lead to improved economic outcomes.

Familiarity With the Proposed Service Area(s)—20 Points

Familiarity with the housing conditions in the proposed service area(s) and the housing assistance available from other sources in that area(s) is essential to providing housing assistance services that are appropriate for the migrant and seasonal farmworkers in need of services, to assure non-duplicative use of WIA Section 167 housing assistance funds, and to reflect the Principles described in Section I of this solicitation.

Applicants must provide an analysis of the housing assistance resources available from all sources in the proposed service area(s), including employer-sponsored housing, state and local agencies, the One-Stop system, and housing assistance organizations, including faith-based and community organizations. Applicants must describe their efforts to engage these resources on behalf of farmworkers, including any successful efforts in the past, and the results of those efforts. Applicants must also describe the strategies they propose to ensure access to these housing opportunities by eligible migrant and seasonal farmworkers, emphasizing the different strategies for each farmworker population. In cases where a number of different organizations are jointly applying, this section must include the requested information for each of the areas covered by the potential sub-grantees.

Scoring on this factor will be based on the comprehensiveness and quality of the mapping of housing assistance resources available from sources other than WIA section 167 funds, and the applicant's strategy for using other housing assistance funds to maximize the housing assistance services available to migrant and seasonal farmworkers.

Administrative Capacity—20 Points

The capacity to effectively administer a housing assistance program is contingent on effective and efficient systems to assure program and fiscal oversight and integrity.

Applicants must describe the management information and performance management systems to be used for reporting, and its performance accountability and management, fiscal management, and case management systems. The applicant must include a clear description of its experience with performance management systems and how the results achieved were applied to improved customer service. The discussion should include:

• A description of how eligibility to receive housing assistance services will be determined, including how that relates to improved employment outcomes for farmworkers;

• a discussion of whether the criteria used to determine eligibility differs among migrant and seasonal farmworker groups, and, if so, what the differences are, and the rationale for them.

Applicants must also describe their recordkeeping system in sufficient detail to demonstrate that it is sufficient to prepare financial reports and to trace funds to adequate levels of expenditures to ensure lawful spending. Please note that in cases where a number of different organizations are applying together, the lead agency will be expected to prepare a “roll-up” or aggregated report that clearly identifies the expenditures of each sub-grantee individually, as well as the combined total.

The WIA section 167 housing assistance program is required to use electronic reporting via the Internet. The applicant must describe its capacity to provide the equipment (including Personal Computers, software for word processing and spreadsheets, individual e-mail accounts), access (including Internet access), and staff qualified to perform on-line reporting.

Scoring on this factor will be based on the quality and comprehensiveness of evidence presented to demonstrate that the applicant has effective management, program and fiscal accounting and reporting systems.

Proposed Activities and Services—40 Points

The applicant's discussion of the proposed approach to providing specific housing assistance services (permanent, temporary/emergency, or both) is the most important single element of the application, and must reflect the Principles contained in Section I of this solicitation. With regard to the requirements below, this section should clearly indicate whether different housing services strategies will be employed to meet the housing and related employment and training needs of seasonal farmworkers versus migrant farmworkers.

Permanent Housing Assistance

Applicants proposing to carry out permanent housing activities only must describe their system for identifying farmworkers in need of permanent housing assistance, including the process for eligibility determination and coordination with the NFJP grantee and the relevant state and local One-Stop system to ensure that the housing assistance supports an employment outcome or training objective for farmworkers eligible for NFJP services.

The proposal must:

• Describe all the phases of the permanent housing project, including pre-development activities, housing development, construction, lease-up, and post-leasing activities (or the activities leading to successful rehabilitation of existing permanent housing), and include a timeline that estimates the length of time required for each project to be undertaken;

• Include a description of the housing counseling activities to be provided to farmworkers (including information on first-time home ownership);

• Include the types of technical assistance to be provided to other housing organizations, if appropriate; and

• A description of the system that will be used to capture the number of referrals made from the NFJP grantee or other One-Stop system partners to permanent housing facilities or units established through a permanent housing program.

The proposal should include an estimate of the number of farmworkers to be assisted through the permanent housing program, and an estimate of how many of those farmworkers are also NFJP-eligible farmworkers.

Temporary and/or Emergency Housing Assistance

Applicants proposing to carry out temporary and/or emergency housing assistance only must describe their system for identifying farmworkers in need of temporary and/or emergency housing assistance, including the process for eligibility determination and coordination with the NFJP grantee in the state and, if applicable, with the relevant state and local One-Stop system, to ensure that the housing assistance supports an employment outcome or training objective for those farmworkers who are NFJP-eligible. The proposal must:

• Include a description of the case management approach to be used and the way the organization proposes to manage the delivery of temporary and/or emergency housing assistance services; and

• Describe the specific housing assistance services to be offered and the estimated number of migrant and seasonal farmworkers to be served through each proposed service (i.e., temporary and emergency housing, respectively). Separate information should be provided for temporary housing and for emergency housing;

• Describe how eligible farmworkers' housing assistance will be coordinated with training and related assistance services provided through the NFJP grantee if the applicant did not apply for or is not awarded an NFJP grant, as well as the Local Workforce Investment Board(s), which oversees strategic planning for all One-Stop partner programs.

Permanent and Temporary/Emergency Housing Assistance

Applicants proposing to conduct a plan of service that encompasses both permanent and temporary/emergency housing activities must provide all of the information requested above.

All applicants are responsible for clearly identifying the organization that will be responsible for delivering the services, whether permanent or temporary and/or emergency, in each proposed service area, i.e., the descriptions requested above must be included for each organization that will deliver housing services in cases where a number of different organizations are applying jointly.

Scoring on this factor will be based on evidence that the applicant has effectively used its knowledge and experience as presented in the previous sections, as applicable, to develop a housing assistance strategy. The housing strategy and plan of service must successfully meet the objectives of the Guiding Principles described in Section I of this solicitation and be tailored appropriately to meet the needs of migrant and seasonal farmworkers in the service area(s).

Review and Selection Process

The Grant Officer will select potential grantees utilizing all information available to him/her. A review panel will rate each proposal according to the criteria specified in this solicitation. Panel reviews are critical to the selection of grantees but are advisory in nature, and their recommendations are not binding on the Grant Officer. The Grant Officer will make the final selection determination based on what best meets the needs of migrants and seasonal farmworkers. The Grant Officer may, at his/her discretion, request an applicant to submit additional or clarifying information if needed to make a selection. Please note that selections may be made without further contact with the applicants. In such situations, an award will be based on the SF 424, which constitutes a binding offer.

VI. Award Administration Information

Award Notices

The Grant Officer will notify applicants, in writing, if they are selected as potential grantees. The notification will invite each potential grantee to negotiate the final terms and conditions of the grant, as applicable, will establish a reasonable time and place for negotiations, and will indicate the specific service delivery area and amount of funds to be allocated under the grant. FY 2007 funds will be awarded for the period July 1, 2007, through June 30, 2008.

An applicant that is not selected as a potential grantee or whose application has been denied in whole or in part by the Department will be notified in writing by the Grant Officer and advised of all appeal rights.

Administrative and National Policy Requirements

There are no additional administrative or national policy requirements besides those discussed elsewhere in this solicitation.

Reporting

Reporting for the WIA section 167 housing assistance program is under consideration; applicants awarded grants will be apprised of the progress and the implications for grantees. Grantees will be required to submit reports on financial expenditures on a quarterly basis. In addition, until a reporting system is operational, grantees will be required to submit narrative reports on program participation and participant outcomes.

VII. Agency Contacts

Questions related to this solicitation may be directed to Ms. Mamie Williams, Grants Management Specialist; phone 202-693-3341; fax: 202-693-2879 (this is not a toll-free number). Please include a contact name, fax and telephone number.

This announcement is also being made available on the ETA Web site at http://doleta.gov/sga/sga.cfm and http://www.grants.gov.

Signed at Washington, DC, this 16th day of April, 2007.
James W. Stockton,
Grant Officer.

[FR Doc. E7-7496 Filed 4-19-07; 8:45 am]

BILLING CODE 4510-FN-P